DEPARTMENT OF AGRICULTURE

Animal and Plant Health Inspection Service

[Docket No. APHIS-2007-0105]

Significant Guidance Documents

AGENCY: Animal and Plant Health Inspection Service, USDA.

ACTION: Notice.

SUMMARY: This notice announces the availability of a Web site that will list significant guidance documents issued by the Animal and Plant Health Inspection Service and provides related information.

ADDRESSES: The agency's Web site for significant guidance documents is located at: http://www.aphis.usda.gov/guidance.

FOR FURTHER INFORMATION CONTACT: Ms. Cindy Howard, Chief, Regulatory Analysis and Development, Policy and Program Development, APHIS, 4700 River Road Unit 118, Riverdale, MD 20737-1238; (301) 734-5957.

SUPPLEMENTARY INFORMATION: On January 18, 2007, the President issued Executive Order (EO) 13422, “Amendment to Executive Order 12866 for Regulatory Planning and Review.” On that same day, the Office of Management and Budget (OMB) issued a related document, the OMB Bulletin on Agency Good Guidance Practices (the Bulletin). The primary focus of the EO and the Bulletin is on improving the way the Federal government does business with respect to significant guidance documents issued to the public by increasing their quality, transparency, accountability, and coordination. OMB subsequently issued a memorandum to assist agencies in their implementation of the EO and Bulletin.¹

¹ Links to the (1) revised EO, (2) the Bulletin, and (3) OMB's memorandum for implementing the revised EO and Bulletin may be found at:

(1) http://www.whitehouse.gov/omb/inforeg/eo12866/fr_notice_eo12866_012307.pdf.

(2) http://www.whitehouse.gov/omb/fedreg/2007/012507_good_guidance.pdf.

(3) http://www.whitehouse.gov/omb/memoranda/fy2007/m07-13.pdf.

Among other things, the Bulletin requires an agency to:

• Maintain on its Web site a list of significant guidance documents in effect, along with a link to each document.

• Establish and clearly advertise on the Web site a means for the public to submit comments electronically on significant guidance documents, and to submit a request electronically for issuance, reconsideration, modification, or rescission of significant guidance documents.

• Designate an office (or offices) to receive and address complaints by the public that the agency is not following procedures in the Good Guidance Bulletin or is treating a significant guidance document as a binding requirement. Provide the name and contact information for the office(s) on the Web site.

This notice announces the Web address where APHIS will maintain its list of significant guidance documents in effect, along with a link to each document. That Web address, also shown in the ADDRESSES section of this notice, is http://www.aphis.usda.gov/guidance.

APHIS intends to make new or revised significant guidance documents available for public comment through the Federal eRulemaking Portal, http://www.regulations.gov. If we issue an economically significant guidance document, we will take public comment on a draft of the economically significant guidance document prior to making it effective, as required by the Bulletin. We will also publish a response to comments we receive on the economically significant guidance document and make our response and the final guidance document available at Regulations.gov as well as on our Web site. We may make significant guidance documents that are not economically significant effective prior to taking public comment. We will give due consideration to comments we receive on significant guidance documents that are not economically significant, but, as provided in the Bulletin, we will not publish a response to the comments. All comments we receive through Regulations.gov will be available for the public to view on that site.

As announced on our significant guidance document Web site, members of the public who wish to request that APHIS issue, reconsider, modify, or rescind a significant guidance document, or who wish to complain that the agency is not following the procedures in OMB's Bulletin or is improperly treating a significant guidance document as a binding requirement, may do so by sending an e-mail to Good_Guidance_Comments@aphis.usda.gov or by mailing a letter to the following office: Guidance Officer, Policy and Program Development, Animal and Plant Health Inspection Service, USDA, 4700 River Road, Unit 20, Riverdale, MD 20737-1230.

Done in Washington, DC, this 18th day of July 2007.
Kevin Shea,
Acting Administrator, Animal and Plant Health Inspection Service.

[FR Doc. E7-14254 Filed 7-23-07; 8:45 am]

BILLING CODE 3410-34-P